DEPARTMENT OF JUSTICE

Notice of Lodging of Consent Decree Under Cercla

Consistent with to 28 CFR 50.7, notice is hereby given that on May 31, 2005, a proposed consent decree (“decree”) in United States and the State of Colorado v. The B&B Mines, Inc., French Gulch Mines, Inc., Diamond Dick Co., Eckart Patch Co., Little Lizzie Limited Liability Company, and Wire Patch Limited Liability Company, Civil Action No. 05-CV-992-EWN-OES, was lodged with the United States District Court for the District of Colorado.

In this action, the United States and the State seek reimbursement of costs incurred and to be incurred for response actions, and natural resource damages, under Sections 106 and 107 of the Comprehensive Environmental Response, Compensation, and Liability Act (“CERCLA”) in connection with the Wellington/Oro French Creek Superfund Site in Summit County, Colorado (“Site”). Parties to the prosed consent decree include Summit County and the Town of Breckenridge as Bona Fide Prospective Purchasers who will perform certain response actions at the Site and preserve it as Open Space.

The Department of Justice will receive for a period of thirty (30) days from the date of this publication comments relating to the decree. Comments should be addressed to the Assistant Attorney General, Environment and Natural Resources Division, P.O. Box 7611, U.S. Department of Justice, Washington, DC 20044-7611, and should refer to United States and the State of Colorado v. The B&B Mines, Inc., French Gulch Mines, Inc., Diamond Dick Co., Eckart Patch Co., Little Lizzie Limited Liability Company, and Wire Patch Limited Liability Company, D.J. Ref. 90-11-2-06306/1.

The decree may be examined at the U.S. Environmental Protection Agency-Region 8, 999 18th Street, Suite 300, Denver, CO 80202. During the public comment period, the decree (without attachments) may also be examined on the following Department of Justice Web site, http://www.usdoj.gov/enrd/open.html. A copy of the decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $4.75 (25 cents per page reproduction cost) payable to the U.S. Treasury.

Catherine McCabe,
Deputy Chief, Environmental Enforcement Section.

[FR Doc. 05-11852 Filed 6-15-05; 8:45 am]

BILLING CODE 4410-15-M